DEPARTMENT OF THE INTERIOR

Bureau of Land Management

[LLORV0000. L51010000. ER0000. LVRWH09H0480. 17XL5017AP. OROR065375. ID036029.HAG 17-0063]

Notice of Availability of the Record of Decision for the Boardman to Hemingway Transmission Line Project and Approved Land-use Plan Amendments, Oregon

AGENCY: Bureau of Land Management, Interior

ACTION: Notice of availability.

SUMMARY: The Bureau of Land Management (BLM) announces the availability of the Record of Decision (ROD) for the Boardman to Hemingway Transmission Line Project (B2H Project) and Approved Land-use Plan Amendments of the Baker and Southeastern Oregon Resource Management Plans (RMPs). The ROD constitutes the BLM's final decision regarding: (1) Approval to grant a Right-of-Way (ROW) to Idaho Power Company to construct, operate and maintain an extra-high-voltage, alternating-current transmission system; and (2) Amending portions of the BLM Baker and Southeastern Oregon RMPs.

DATES: This decision takes effect immediately.

ADDRESSES: The complete text of the ROD, along with the B2H Project Final Environmental Impact Statement (EIS) and supporting documents, is available on the BLM Web site at http://www.boardmantohemingway.com/ Copies of the ROD will be placed in all involved BLM offices and, for public review, at the locations identified in the SUPPLEMENTARY INFORMATION section of this notice.

FOR FURTHER INFORMATION CONTACT: Tamara Gertsch, National Project Manager, Bureau of Land Management, Vale District Office, P.O. Box 655, Vale, OR 97918; telephone: (307) 775-6115; email: comment@boardmantohemingway.com. Persons who use a telecommunications device for the deaf may call the Federal Relay Service at (800) 877-8339 to contact the above individual during normal business hours. The service is available 24 hours a day, 7 days a week, to assist you in leaving a message or question for the above individual. You will receive a reply during normal business hours.

For information related to the U.S. Forest Service's (USFS) involvement in the B2H Project, contact: Arlene Blumton, USFS Project Lead, telephone: (541) 962-8522, email: ablumton@fs.fed.us. The USFS will provide a mailing address in its Notice of Availability (NOA) of the B2H Project Final EIS and Proposed Land-use Plan Amendments, and a notice of the draft USFS Record of Decision will be published in the Baker City Herald shortly after the BLM ROD.

SUPPLEMENTARY INFORMATION: Idaho Power Company filed with the BLM an application for a ROW grant to use BLM-managed lands to construct, operate, and maintain the B2H Project, which is an approximately 294-mile-long overhead, single-circuit, 500-kilovolt (kV), alternating-current electric transmission line with additional ancillary facilities. The B2H Project will connect the northern terminus, the Longhorn Substation proposed by Bonneville Power Administration (BPA), which is approximately 4 miles northeast of the city of Boardman in Morrow County, Oregon, to the existing Hemingway Substation, which is near the city of Melba in Owyhee County, Idaho. When completed, the B2H Project will provide additional electrical load capacity between the Pacific Northwest Region and the Intermountain Region of Southwestern Idaho. The B2H Project also will alleviate existing transmission constraints and ensure that there is sufficient electrical capacity to meet present and forecasted customer needs as described in Idaho Power Company's 2015 Integrated Resource Plan (available online at https://www.idahopower.com/AboutUs/PlanningForFuture/irp/2015).

The ROW width is 250 feet for its entire length, except for an approximately 7-mile section that will replace an existing 69-kV transmission line and will require a 90-foot-wide ROW within and parallel to the eastern boundary of the Naval Weapons Systems Training Facility, Boardman, as well as a 0.9-mile-long section that will require a 125-foot-wide ROW to relocate an existing 230-kV transmission line.

Construction of the B2H Project will take 2 to 3 years and will consist of the following permanent facilities:

• A single-circuit 500-kV electric transmission line (including structures and conductors, as well as other associated facilities) between the proposed Longhorn Substation and the existing Hemingway Substation;

• Access roads and access-control gates;

• A communication regeneration site every 40 miles;

• Removal of approximately 7 miles of the existing Boardman to Tap 69-kV transmission line; and

• Rerouting 0.9 mile of the existing Quartz to Tap 230-kV transmission line.

The BLM will issue a separate, short-term ROW grant for temporary facilities, including temporary access roads (if any), and geotechnical investigation (also analyzed in the Final EIS) for a period of 5 years.

The BLM prepared an EIS in accordance with the National Environmental Policy Act (NEPA) to analyze the direct, indirect, and cumulative environmental impacts associated with the proposed action and the alternatives. The BLM also identified and considered mitigation measures in the EIS to address the environmental impacts of the B2H Project and proposed plan amendments.

The ROD approved the Agency Preferred Alternative identified in the Final EIS. The BLM issued the ROD based on compliance with relevant laws, regulations, policies, and plans, including those guiding agency decisions that may have an impact on resources and their values, services, and functions.

The ROD approving the ROW grant requires, among other things, that the applicant satisfy specific mitigation measures. In particular, the sequence of mitigation actions will be the mitigation hierarchy (avoid, minimize, or compensate) as identified by the White House Council on Environmental Quality's (CEQ) NEPA implementing regulations (40 CFR 1508.20). Siting and design of the B2H Project required the application of design features of the B2H Project for environmental protection. Additionally, selective mitigation measures and implementation plans have been developed to consider the full mitigation hierarchy to avoid, minimize, or compensate for residual impacts on important, scarce, or sensitive resources. The priority is to mitigate impacts at sites of B2H Project activity in conformance with the land-use plan goals and objectives through impact avoidance or minimization of the impact, including those measures described in laws, regulations, policies, and land-use plans. If these types of mitigation measures are not sufficient to ameliorate anticipated direct, indirect, and cumulative impacts, and if substantial or significant residual impacts remain on important, scarce, or sensitive resources, the BLM is requiring compensatory mitigation to reduce these residual impacts or meet applicable land-use plan goals and objectives, consistent with the requirements of NEPA, as well as the BLM's statutory obligations under the Federal Land Policy and Management Act (FLPMA). Compensatory mitigation may be required for Greater sage-grouse, riparian conservation areas, cultural resources, and national historic trails. Based on the analysis in the Final EIS, the ROD also amends two BLM RMPs as follows:

• Baker RMP—modifies 23 acres of visual resource management (VRM) Class II to Class IV in Burnt River Canyon;

• Southeastern Oregon RMP—modifies 51 acres of VRM Class III to Class IV in the vicinity of the Oregon Trail—Birch Creek Area of Critical Environmental Concern (ACEC); and

• Southeastern Oregon RMP—modifies 20 acres of VRM Class II to Class IV outside of and north of the Owyhee River below the Dam ACEC.

The approved Land-use Plan Amendments specifically revise the RMPs to allow for the development of the B2H Project and ancillary facilities on land managed by the BLM. Consistent with NEPA, the BLM has integrated its land-use planning process with its evaluation of the B2H Project, including the scoping and public availability periods for the EIS. With approval of these Land-use Plan Amendments, the B2H Project will conform to the approved RMPs (43 CFR 1610.5-3).

The evaluation of B2H Project compliance with Land and Resource Management Plans will be described by the USFS in its NOA for the B2H Project Final EIS and Approved Land-use Plan Amendments and its draft USFS ROD to be issued for comment following the BLM ROD.

Copies of the Final EIS and ROD are available for public review during normal business hours at the following locations in Oregon:

• Baker County Planning Department, 1995 Third St., Baker City

• Baker County Library, 2400 Resort St., Baker City

• BLM Baker Field Office, 3285 11th St., Baker City

• Boardman City Library, 200 S. Main St., Boardman

• Harney County Public Library, 80 W. D St., Burns

• Grant County Planning Department, 201 S. Humboldt St., Canyon City

• BLM Burns District Office, 28910 Hwy 20 W., Hines

• Hermiston Public Library, 235 E. Gladys Avenue, Hermiston

• Morrow County Planning Department, 205 NE. Third St., Irrigon

• Grant County Library, 507 S. Canyon Blvd., John Day

• La Grande Public Library, 2006 Fourth St., La Grande

• Union County Planning Department, 1001 4th St., Suite C, La Grande

• USFS Wallowa-Whitman National Forest Office, La Grande Ranger District, 3502 Highway 30, La Grande

• USFS Wallowa-Whitman National Forest Headquarters, 1550 Dewey Ave., Baker City

• Pendleton Public Library, 502 SW. Dorion Ave., Pendleton

• Umatilla County Planning Department, 216 SE. Fourth St., Pendleton

• BLM Prineville District Office, 3050 NE. 3rd St., Prineville

• Ontario Library, 388 SW. Second Ave., Ontario

• BLM Vale District Office, 100 Oregon St., Vale

• Malheur County Planning Department, 251 B St. W., Vale

• Oregon Department of Energy, 625 Marion St. NE., Salem

• North Powder City Library, 290 E. St., North Powder

Copies of the Final EIS and ROD are available for public review during normal business hours at the following locations in Idaho:

• BLM Boise District Office, 3948 Development Ave., Boise

• Boise Public Library, 715 S. Capitol Blvd., Boise

• BLM Owyhee Field Office, 20 First Ave. W., Marsing

• Owyhee County Planning Department, 17069 Basey St., Murphy

• Nampa Public Library, 215 12th Avenue South Nampa, ID 83651

• Lizard Butte Library, 111 S 3rd Ave. W., Marsing

On November 28, 2016, the NOA for the B2H Project Final EIS and Proposed Land-use Plan Amendments (81 FR 85632) was published in the Federal Register. The publication of the NOA initiated a 30-day protest period for the proposed land-use planning decision, as well as a simultaneous 60-day review by the Governor of Oregon to identify any inconsistencies with State or local plans, policies, or programs. At the close of the 30-day protest period, 53 protests were received. These protests were resolved by the BLM Director; individual protest response letters were sent to all protesting parties. Protest resolution is contained in the Director's Protest Summary Report, which is available online at http://www.blm.gov/pgdata/content/wo/en/prog/planning/planningoverview/protest_resolution.html. The proposed Land-use Plan Amendments were not modified as a result of the protest resolution, and the Oregon Governor's review did not identify any inconsistencies.

Approval of this decision by the Acting Assistant Secretary—Land and Minerals Management is not subject to administrative appeal (43 CFR 4.410(a)(3)). Additionally, any challenge to this decision must be brought in Federal District Court and is subject to 42 U.S.C. 4370m-6.

Authority: 40 CFR 1506.6.

Jamie E. Connell,
State Director, Oregon/Washington.

[FR Doc. 2017-25013 Filed 11-16-17; 8:45 am]

BILLING CODE 4310-33-P